INTERNATIONAL TRADE COMMISSION

[USITC SE-15-023]

Government in the Sunshine Act Meeting Notice

AGENCY HOLDING THE MEETING: United States International Trade Commission

TIME AND DATE: August 7, 2015 at 11:00 a.m.

PLACE: Room 101, 500 E Street SW., Washington, DC 20436, Telephone: (202) 205-2000.

STATUS: Open to the public.

MATTERS TO BE CONSIDERED:

1. Agendas for future meetings: none.

2. Minutes

3. Ratification List

4. Vote in Inv. No. 731-TA-1279 (Preliminary) (Hydrofluorocarbon Blends and Components From China). The Commission is currently scheduled to complete and file its determination on August 10, 2015; views of the Commission are currently scheduled to be completed and filed on August 17, 2015.

5. Vote in Inv. No. 731-TA-1092 (Review) (Diamond Sawblades and Parts Thereof From China). The Commission is currently scheduled to complete and file its determination and views of the Commission on September 2, 2015.

6. Outstanding action jackets: none

In accordance with Commission policy, subject matter listed above, not disposed of at the scheduled meeting, may be carried over to the agenda of the following meeting.

By order of the Commission.
Issued: July 31, 2015.
Lisa R. Barton,
Secretary to the Commission.

[FR Doc. 2015-19282 Filed 8-3-15; 11:15 am]

BILLING CODE 7020-02-P